INTERNATIONAL TRADE COMMISSION

[Investigation No. 337-TA-1173]

Certain Rotating 3-D LiDAR Devices, Components Thereof, and Sensing Systems Containing the Same Commission Determination Not To Review an Initial Determination Terminating the Investigation as to Respondent Suteng Innovation Technology Co., Ltd. Based on Settlement; Termination of the Investigation

AGENCY: U.S. International Trade Commission.

ACTION: Notice.

SUMMARY: Notice is hereby given that the U.S. International Trade Commission has determined not to review an initial determination (“ID”) (Order No. 48) of the presiding administrative law judge (“ALJ”), granting a joint motion to terminate the investigation as to respondent Suteng Innovation Technology Co., Ltd. (a.k.a. RoboSense) (“RoboSense”) based on settlement. The investigation is terminated in its entirety.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 17, 2019, based on a complaint filed on behalf of Velodyne Lidar, Inc. (“Velodyne”) of San Jose, California. 84 FR 48945 (Sep. 17, 2019). A supplemental complaint was filed on August 28, 2019. The complaint, as supplemented, alleges violations of section 337 of the Tariff Act of 1930, as amended, 19 U.S.C. 1337, in the importation into the United States, the sale for importation, or the sale within the United States after importation of certain rotating 3-D LiDAR devices, components thereof, and sensing systems containing the same by reason of infringement of claims 1-4 and 6-25 of U.S. Patent No. 7,969,558. Id. The complaint further alleges that a domestic industry exists. Id. The Commission's notice of investigation named as respondents Hesai Photonics Technology Co., Ltd. (“Hesai”) of Shanghai, China; and RoboSense of Shenzhen, Guangdong, China. Id. The Office of Unfair Import Investigations is not participating in the investigation. Id. Respondent Hesai was terminated from the investigation based on a settlement agreement. See Order No. 33 at 1 (July 13, 2020), unreviewed by Notice (Aug. 3, 2020).

On September 30, 2020, Velodyne and RoboSense filed a joint motion to terminate the investigation with respect to RoboSense based upon a Litigation Settlement and Patent Cross License Agreement and a Master Framework Agreement. See Order No. 48 at 1 (Oct. 1, 2020).

On October 1, 2020, the ALJ issued the subject ID (Order No. 48), granting the joint motion pursuant to Commission Rule 210.21(b), 19 CFR 210.21(b). Id. The ALJ found that the motion to terminate complies with the Commission's rules, and there is no evidence that terminating this investigation by settlement would be contrary to the public interest. Id. at 3-4. No petitions for review of the ID were filed.

The Commission has determined not to review the subject ID. RoboSense is hereby terminated from the investigation. The investigation is terminated in its entirety.

The Commission vote for this determination took place on October 15, 2020.

The authority for the Commission's determination is contained in section 337 of the Tariff Act of 1930, as amended, 19 U.S.C. 1337, and in Part 210 of the Commission's Rules of Practice and Procedure, 19 CFR part 210.

By order of the Commission.
Issued: October 15, 2020.
Lisa Barton,
Secretary to the Commission.

[FR Doc. 2020-23194 Filed 10-19-20; 8:45 am]

BILLING CODE 7020-02-P